DEPARTMENT OF THE INTERIOR

National Park Service

Notice of Availability of Location Fee Schedule for Commercial Filming and Still Photography Permits for Units of the National Park Service

AGENCY: National Park Service, Interior.

SUMMARY: In accordance with Public Law 106-206, beginning on May 15, 2006, the National Park Service (NPS) will collect a location fee for commercial filming and certain still photography activities permitted in units of the National Park Service. In addition, the NPS will continue to recover from the applicant a sum equal to the amount expended by the NPS in processing the permit request.

DATES: Collection of location fees will be effective May 15, 2006.

ADDRESSES: Information requests may be submitted to Lee Dickinson, Special Park Uses Program Manager, by any of the following methods:

E-mail: Lee_Dickinson@nps.gov.

Fax: 202-371-2401, Attention: Lee Dickinson.

Mail: Lee Dickinson, Special Park Uses Program Manager, National Park Service, 1849 C Street, NW, ORG CODE 2460, Washington, DC 20240.

FOR FURTHER INFORMATION CONTACT: Lee Dickinson, NPS Special Park Uses Program Manager at lee_dickinson@nps.gov or (202) 513-7092.

SUPPLEMENTARY INFORMATION: Public Law 106-206 (codified at 16 U.S.C. 460l-6d) directs the Secretaries of the Interior and Agriculture to establish a reasonable fee system for location fees for commercial filming and still photography activities on lands under the Secretaries' jurisdiction.

In June 2004, at the request of some members of Congress, the Government Accountability Office (GAO) began a review of NPS policy and guidance related to issuing special use permits for special events and for commercial filming and still photography. In a May 6, 2005, report, the GAO concluded that the NPS could have collected and retained at least $1.6 million in location fees for commercial filming and still photography activities permitted on park lands in fiscal year 2003 if Public Law 106-206 had been implemented. A recommendation of the report was that the NPS “Expedite the implementation of the law that requires the Park Service to collect locations fees and costs for commercial filming and still photography, when appropriate.”

The Department of the Interior (DOI) is currently rewriting existing regulations at 43 CFR part 5. The new regulation will include many provisions of Public Law 106-206 which are not addressed in the current regulation and will ensure consistency between DOI agencies using this regulation. When finalized, this regulation will be the primary regulation governing commercial filming and still photography activities for the Bureau of Land Management (BLM), the U.S. Fish and Wildlife Service (FWS), and the National Park Service (NPS). A location fee schedule is being developed to be used by DOI agencies covered by this new regulation. Beginning on May 15, 2006, and continuing until the Departmental regulation is adopted and a new location fee schedule developed, the NPS will use the following location fee schedule currently used by the Bureau of Land Management in Nevada:

Commercial Filming/Videos

1-10 people—$150/day

11-30 people—$250/day

31-49 people—$500/day

Over 50 people—$750/day

Still Photography

1-10 people—$50/day

11-30 people—$150/day

Over 30 people—$250/day

The term “commercial filming” means the digital or film recording of a visual image or sound recording by a person, business, or other entity for a market audience, such as for a documentary, television or feature film, advertisement, or similar project. The location fee for still photography applies only to those still photography activities that require a permit from the NPS. A still photography activity requires a permit when it takes place at location(s) where or when members of the public are generally not allowed; when it uses model(s), sets(s), or prop(s) that are not a part of the location's natural or cultural resources or administrative facilities; or when we would need to provide management and oversight to:

(i) Avoid impairment or incompatible use of the resources and values of the site; or

(ii) Limit resource damage; or

(iii) Minimize health or safety risks to the visiting public.

Dated: April 20, 2006.
Fran Mainella,
Director, National Park Service.

[FR Doc. E6-7136 Filed 5-9-06; 8:45 am]

BILLING CODE 4310-70-P